DEPARTMENT OF TRANSPORTATION

National Highway Traffic Safety Administration

[Docket No. NHTSA-2005-20923; Notice 1]

Les Entreprises Michel Corbeil Inc., Receipt of Petition for Decision of Inconsequential Noncompliance

Les Entreprises Michel Corbeil Inc. (Corbeil) has determined that certain vehicles that it produced in 1998 through 2005 do not comply with S9.3(c) of 49 CFR 571.111, Federal Motor Vehicle Safety Standard (FMVSS) No. 111, “Rearview mirrors.” Corbeil has filed an appropriate report pursuant to 49 CFR Part 573, “Defect and Noncompliance Reports.”

Pursuant to 49 U.S.C. 30118(d) and 30120(h), Corbeil has petitioned for an exemption from the notification and remedy requirements of 49 U.S.C. Chapter 301 on the basis that this noncompliance is inconsequential to motor vehicle safety.

This notice of receipt of Corbeil's petition is published under 49 U.S.C. 30118 and 30120 and does not represent any agency decision or other exercise of judgment concerning the merits of the petition.

Affected are a total of approximately 246 Ford and GM chassis cutaway single and dual wheel school buses manufactured from January 5, 1998 through February 15, 2005. S9.3(c) requires:

Each school bus which has a mirror installed in compliance with S9.3(a) that has an average radius of curvature of less than 889 mm, as determined under S12, shall have a label visible to the seated driver. The label shall be printed in a type face and color that are clear and conspicuous. The label shall state the following: USE CROSS VIEW MIRRORS TO VIEW PEDESTRIANS WHILE BUS IS STOPPED. DO NOT USE THESE MIRRORS TO VIEW TRAFFIC WHILE BUS IS MOVING. IMAGES IN SUCH MIRRORS DO NOT ACCURATELY SHOW ANOTHER VEHICLE'S LOCATION.”

The noncompliant school buses were produced without the required label.

Corbeil indicates in its petition that the number of school buses that are noncompliant is an estimate. Corbeil explains, “As we cannot establish any moment where this situation may have occurred, we have considered the NHTSA time frame from 1998 [when production began] to February 15, 2005 [when the noncompliance was corrected].” Corbeil states that during this period, 8471 of the affected type of school buses were produced. Corbeil further states:

A count was done within the ready-for-delivery bus yard. * * *From a quantity of 310 vehicles inspected, 9 vehicles were not provided with the label. * * *We have then extrapolated the recall population by [applying the ratio 9/310 or 2.9% to the population of 8471].

Corbeil believes that the noncompliance is inconsequential to motor vehicle safety and that no corrective action is warranted. Corbeil states that school bus drivers in general are instructed and aware of the use of these mirrors for pedestrian purposes only. Further, the petitioner asserts that a very small number of vehicles are affected, over a time period of eight years, and that a recall would cost approximately $10,000 Canadian due to the need to recall all 8471 school buses produced from 1998 to 2005 to determine which do not have the label required by S9.3(c). Corbeil has corrected the problem.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: May 18, 2005.

Authority (49 U.S.C. 30118, 30120: delegations of authority at CFR 1.50 and 501.8)

Issued on: April 13, 2005.
Ronald L. Medford,
Senior Associate Administrator for Vehicle Safety.

[FR Doc. 05-7698 Filed 4-15-05; 8:45 am]

BILLING CODE 4910-59-P